DEPARTMENT OF AGRICULTURE

Animal and Plant Health Inspection Service

[Docket No. APHIS-2020-0030]

State University of New York College of Environmental Science and Forestry; Availability of a Draft Environmental Impact Statement and Draft Plant Pest Risk Assessment for Determination of Nonregulated Status for Blight-Tolerant Darling 58 American Chestnut (Castanea dentata) Developed Using Genetic Engineering

AGENCY: Animal and Plant Health Inspection Service, USDA.

ACTION: Notice of availability; extension of comment period.

SUMMARY: We are advising the public that we are extending the comment period on a notice of availability of a draft environmental impact statement and draft plant pest risk assessment evaluating the potential environmental impacts and plant pest risk that may result from the approval of a petition for nonregulated status for blight-tolerant Darling 58 American chestnut (Castanea dentata) from the State University of New York College of Environmental Science and Forestry. This action will allow interested persons additional time to prepare and submit comments.

DATES: The comment period for the notice published on November 10, 2022 (87 FR 67861-67862) is extended. We will consider all comments that we receive on or before January 26, 2023.

ADDRESSES: You may submit comments by either of the following methods:

• FederaleRulemakingPortal:Go to www.regulations.gov. Enter APHIS-2020-0030 in the Search field. Select the Documents tab, then select the Comment button in the list of documents.

• Postal Mail/Commercial Delivery: Send your comment to Docket No. APHIS-2020-0030, Regulatory Analysis and Development, PPD, APHIS, Station 3A-03.8, 4700 River Road Unit 118, Riverdale, MD 20737-1238.

The petition and any comments we receive on this docket may be viewed at Regulations.gov or in our reading room, which is located in room 1620 of the USDA South Building, 14th Street and Independence Avenue SW, Washington, DC. Normal reading room hours are 8 a.m. to 4:30 p.m., Monday through Friday, except holidays. To be sure someone is there to help you, please call (202) 7997039 before coming.

FOR FURTHER INFORMATION CONTACT: Dr. Subray Hegde, Biotechnology Regulatory Services, APHIS, 4700 River Road Unit 147, Riverdale, MD 20737-1238; (301) 851-3901; email: subray.hegde@usda.gov.

SUPPLEMENTARY INFORMATION:

Background

On November 10, 2022, we published in the Federal Register (87 FR 67861-67862), Docket No. APHIS-2020-0030) a notice of availability of a draft environmental impact statement and draft plant pest risk assessment ¹ evaluating the potential environmental impacts and plant pest risk that may result from the approval of a petition for nonregulated status for blight-tolerant Darling 58 American chestnut (Castanea dentata) from the State University of New York College of Environmental Science and Forestry.

¹ To view the notice, supporting documents, and public comments, go to www.regulations.gov. Enter APHIS-2020-0030 in the Search field.

Comments on the notice were required to be received on or before December 27, 2022. We are extending the comment period on Docket No. APHIS-2020-0030 for an additional 30 days. This action will allow interested persons additional time to prepare and submit comments.

Authority: 7 U.S.C. 7701-7772 and 7781-7786; 31 U.S.C. 9701; 7 CFR 2.22, 2.80, and 371.3.

Done in Washington, DC, this 20th day of December 2022.
Anthony Shea,
Administrator, Animal and Plant Health Inspection Service.

[FR Doc. 2022-28075 Filed 12-23-22; 8:45 am]

BILLING CODE 3410-34-P